DEPARTMENT OF AGRICULTURE

Submission for OMB Review; Comment Request

January 11, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: CACFP Improper Payments Data Collection Pilot Project.

OMB Control Number: 0584-NEW.

Summary of Collection: The Child and Adult Care Food Program (CACFP), administered by the U.S. Department of Agriculture (USDA), Food and Nutrition Service (FNS), plays an important role in ensuring that children have adequate access to food. The CACFP is authorized under section 17 of the National School Lunch Act (42 U.S.C. 1766) to provide funds for meals and snacks served to children in day care centers, children residing in emergency shelters, and youths participating in eligible after-school care programs. In addition, the CACFP helps improve the quality of day care and makes it more affordable for low-income families by reimbursing family day care homes (FDCHs) for serving nutritious meals and snacks to children participating in these day care facilities. USDA has identified the CACFP as one of its programs “susceptible to significant erroneous payments.” Under the Improper Payment Information Act of 2002 (IPIA; Pub. L. 107-300), the USDA must identify and reduce improper (or erroneous) payments in various food and nutrition programs. Therefore the FNS is conducting a feasibility evaluation of four possible data collection methods for validating the number and type of meals claimed for reimbursement by FDCHs in the CACFP.

Need and Use of the Information: The data collected to document the number of valid meals served will be compared with data on the number of reimbursable meals claimed by the FDCHs and their sponsors to produce a national estimate of erroneous payments in the CACFP and thus meet the reporting requirements of the IPIA.

Description of Respondents: Individuals or households.

Number of Respondents: 255.

Frequency of Responses: Reporting: On Occasion.

Total Burden Hours: 70.

Ruth Brown,
Departmental Information Collection Clearance Officer.

[FR Doc. E8-738 Filed 1-16-08; 8:45 am]

BILLING CODE 3410-30-P